DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by August 18, 2003.

Title, Form, and OMB Number: Exceptional Family Member Program; DD Form 2792 and 2792-1; OMB Number 0704-0411.

Type of Request: Reinstatement.

Number of Respondents: 17,300.

Responses Per Respondent: 1.

Annual Responses: 17,300.

Average Burden Per Response: 27 minutes (average).

Annual Burden Hours: 7,785.

Needs and Uses: This information collection is necessary to screen Department of Defense military members to determine if they have special medical or educational conditions so that these conditions can be taken into consideration when being assigned to a new location. It is also used by DoD civilian employees who are considering a job overseas to assist them in deciding whether to relocate overseas with a family member who has special medical or educational needs. Respondents are private physicians and school personnel. The DD Form 2792, “Exceptional Family Member Medical Summary,” and DD Form 2792-1, “Exceptional Family Member Education and Early Intervention Summary,” are two forms used to gather the necessary information for this program.

Affected Public: Business or Other For-Profit, State, Local or Tribal Government.

Frequency: Triennial.

Respondent's Obligation: Required to Obtain or Retain Benefits.

OMB Desk Officer: Ms. Jacqueline A. Zeiher.

Written comments and recommendations on the proposed information collection should be sent to Ms. Zeiher at the Office of Management and Budget, Desk Officer for DoD, Room 10236, New Executive Office Building, Washington, DC 20503.

DoD Clearance Officer: Mr. Robert Cushing.

Written requests for coipies of the information collection proposal should be sent to Mr. Cushing, WHS/DIOR, 1215 Jefferson Davis Highway, Suite 1204, Arlington, VA 22202-4302.

Dated: July 11, 2003.
Patricia L. Toppings,
Alternate OSD Federal Register Liaison Officer, Department of Defense.

[FR Doc. 03-18106 Filed 7-16-03; 8:45 am]

BILLING CODE 5001-08-M